DEPARTMENT OF AGRICULTURE

Animal and Plant Health Inspection Service

[Docket No. APHIS-2006-0172]

Interstate Movement of Garbage From Hawaii; Withdrawal of Finding of No Significant Impact

AGENCY: Animal and Plant Health Inspection Service, USDA.

ACTION: Notice; withdrawal of finding of no significant impact.

SUMMARY: On May 27, 2010, we advised the public that the Animal and Plant Health Inspection Service prepared an environmental assessment and a finding of no significant impact relative to a request to allow the interstate movement of municipal solid waste from Hawaii to a landfill in the State of Washington. Because we have been made aware of additional information that was not previously provided and we have an interest in examining that information to determine the potential impacts, we are withdrawing the finding of no significant impact effective immediately in order to reevaluate the potential for environmental impacts that may be associated with this action.

DATES: Effective Date: October 4, 2010.

FOR FURTHER INFORMATION CONTACT: Mr. David Lamb, Import Specialist, Regulatory Coordination and Compliance, PPQ, APHIS, 4700 River Road Unit 133, Riverdale, MD 20737-1231; (301) 734-0627.

SUPPLEMENTARY INFORMATION:

Background

The importation and interstate movement of garbage is regulated by the Animal and Plant Health Inspection Service under 7 CFR 330.400 and 9 CFR 94.5 in order to protect against the introduction into and dissemination within the United States of plant and animal pests and diseases.

On January 19, 2010, we published in the Federal Register (75 FR 2845-2846, Docket No. APHIS-2006-0172) a notice ¹ in which we announced the availability, for public review and comment, of an environmental assessment documenting our review and analysis of the environmental impacts associated with, and alternatives to, the movement of palletized or containerized baled municipal solid waste to three existing ports on the Columbia River via barge and the transfer and transportation of the waste via truck or rail to the landfill.

¹ To view the environmental assessment, the comments we received and our responses to the comments, and the finding of no significant impact, go to http://www.regulations.gov/fdmspublic/component/main?main=DocketDetail&d=APHIS-2006-0172.

We solicited comments on the environmental assessment for 30 days ending on February 18, 2010. We received 37 comments by that date. The commenters raised several issues, including the potential for invasive species/pest introductions, impacts on air and water quality, impacts on fish and wildlife habitat, impacts on existing infrastructure (highway, rail, and barge), increased traffic at associated ports, and the adequacy of the environmental assessment's analysis of cumulative effects.

On May 27, 2010, we published in the Federal Register (75 FR 29706, Docket No. APHIS-2006-0172) a notice announcing the availability of a final environmental assessment and our finding of no significant impact (FONSI).

Although the agency had requested public comment on the environmental assessment published on January 19, 2010, with comments due on February 18, 2010, we received new information regarding potential impacts from that action after the FONSI had been issued. Because APHIS had not previously had the opportunity to evaluate this new information, we have decided to withdraw the FONSI effective immediately and reevaluate the potential environmental impacts that may be associated with this action.

Done in Washington, DC, this 28th day of September 2010.
Kevin Shea,
Acting Administrator, Animal and Plant Health Inspection Service.

[FR Doc. 2010-24817 Filed 10-1-10; 8:45 am]

BILLING CODE 3410-34-P